INTERNATIONAL TRADE COMMISSION

[Investigation No. 337-TA-1408]

Certain Hydrodermabrasion Systems and Components Thereof; Notice of a Commission Determination To Review in Part a Final Initial Determination Finding a Violation; Extension of the Target Date for Completion of the Investigation; Request for Written Submissions on Remedy, the Public Interest, and Bonding

AGENCY: U.S. International Trade Commission.

ACTION: Notice.

SUMMARY: Notice is hereby given that the U.S. International Trade Commission (“Commission”) has determined to review in part a final initial determination (“FID”) of the presiding administrative law judge (“ALJ”). The Commission requests written submissions from the parties, interested government agencies, and other interested persons on the issues of remedy, the public interest, and bonding, under the schedule set forth below. The Commission has also determined to extend the target date for completion of the investigation to March 23, 2026.

FOR FURTHER INFORMATION CONTACT: Jonathan D. Link, Esq., Office of the General Counsel, U.S. International Trade Commission, 500 E Street SW, Washington, DC 20436, telephone (202) 205-3103. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On July 17, 2024, the Commission instituted this investigation based on a complaint filed on behalf of HydraFacial LLC, f/k/a Edge Systems LLC, of Long Beach, California (“HydraFacial”). 89 FR 58188-89 (July 17, 2024). The complaint alleges violations of section 337 of the Tariff Act of 1930, as amended, 19 U.S.C. 1337 (“section 337”), based on the importation into the United States, the sale for importation, or sale within the United States after importation of certain hydrodermabrasion systems and components thereof by reason of the infringement of certain claims of U.S. Patent No. 11,865,287 patent (“the '287 patent”). Id. The complaint further alleges that an industry in the United States exists as required by section 337. Id. The Commission's notice of investigation named as respondents Cartessa Aesthetics, LLC (“Cartessa”) of Melville, New York; and Eunsung Global Corp. of Republic of Korea. Id. The Office of Unfair Import Investigations is not participating in this investigation. Id.

On August 14, 2025, the Commission determined not to review an initial determination (Order No. 3) setting the target date for completion of the investigation as December 17, 2025. See Order No. 3 (July 29, 2024), unreviewed by Comm'n Notice (Aug. 14, 2024).

On January 21, 2025, the Commission terminated the investigation as to Eunsung based on a consent order. Order No. 19 (Dec. 19, 2024), unreviewed by Comm'n Notice (Jan. 21, 2025).

On April 11, 2025, the Commission determined not to review an initial determination (Order No. 34) granting Complainant's unopposed motion to terminate the investigation as to claims 1-10, 15, 17, 20, 23, 26, 28-31, 33-37, and 39-45 of the '287 patent. See Order No. 34 (Mar. 26, 2025), unreviewed by Comm'n Notice (Apr. 11, 2025).

On August 26, 2025, the ALJ issued a final initial determination finding a violation of section 337 by respondent Cartessa. On September 8, 2025, Cartessa filed a petition for review of the FID and on September 16, 2025, HydraFacial filed its response.

On December 15, 2025, the Commission determined, in view of the shutdown of the Federal Government, to extend the date for determining whether to review the FID to January 22, 2026. See Comm'n Notice (Dec. 15, 2025). In that notice, the Commission also asked the parties to address the impact, if any, the upcoming expiration of the '287 patent would have on the investigation.

Having reviewed the record of the investigation, including the final ID, the parties' submissions to the ALJ, the Commission has determined to review the ID in part. Specifically, the Commission has determined to review the FID's findings on (1) the construction, and findings on infringement and the technical prong of the domestic industry, for the claim limitations including the term “fluid communication”; (2) invalidity and non-infringement findings based on the finding that the term “block” is indefinite, including review of any underlying related orders (e.g., Order Nos. 29 and 50); and (3) unenforceability based on prosecution laches.

The Commission has also determined to extend the target date for completion of the investigation to March 23, 2026.

In connection with the final disposition of this investigation, the statute authorizes issuance of, inter alia, (1) an exclusion order that could result in the exclusion of the subject articles from entry into the United States; and/or (2) cease and desist orders that could result in the respondents being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (Dec. 1994).

The statute requires the Commission to consider the effects of that remedy upon the public interest. The public interest factors the Commission will consider include the effect that an exclusion order and a cease and desist order would have on: (1) the public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve, disapprove, or take no action on the Commission's determination. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: Parties to the investigation, interested government agencies, and any other interested parties are encouraged to file written submissions on the issues of remedy, the public interest, and bonding. Such submissions should address the recommended determination by the ALJ on remedy and bonding.

In its initial submission, Complainant is also requested to identify the remedy sought and Complainant is requested to submit proposed remedial orders for the Commission's consideration. Complainant is further requested to state the date that the Asserted Patent expires, to provide the HTSUS subheadings under which the accused products are imported, and to supply the identification information for all known importers of the products at issue in this investigation. All initial written submissions, from the parties and/or third parties/interested government agencies, and proposed remedial orders from the parties must be filed no later than close of business on February 5, 2026. All reply submissions must be filed no later than the close of business on February 12, 2026. Opening submissions from the parties are limited to 10 pages. Reply submissions from the parties are limited to 5 pages. All submission from third parties and/or interested government agencies are limited to 10 pages. No further submissions on any of these issues will be permitted unless otherwise ordered by the Commission.

Persons filing written submissions must file the original document electronically on or before the deadlines stated above pursuant to 19 CFR 210.4(f). Submissions should refer to the investigation number (Inv. No. 337-TA-1408) in a prominent place on the cover page and/or the first page. (See Handbook for Electronic Filing Procedures, https://www.usitc.gov/documents/handbook_on_filing_procedures.pdf). Persons with questions regarding filing should contact the Secretary, (202) 205-2000.

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. Any non-party wishing to submit comments containing confidential information must serve those comments on the parties to the investigation pursuant to the applicable Administrative Protective Order. A redacted non-confidential version of the document must also be filed with the Commission and served on any parties to the investigation within two business days of any confidential filing. All information, including confidential business information and documents for which confidential treatment is properly sought, submitted to the Commission for purposes of this investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel, solely for cybersecurity purposes. All contract personnel will sign appropriate nondisclosure agreements. All nonconfidential written submissions will be available for public inspection on EDIS.

The Commission vote for this determination took place on January 22, 2026.

The authority for the Commission's determination is contained in section 337 of the Tariff Act of 1930, as amended (19 U.S.C. 1337), and in Part 210 of the Commission's Rules of Practice and Procedure (19 CFR part 210).

By order of the Commission.
Issued: January 22, 2026.
Lisa Barton,
Secretary to the Commission.

[FR Doc. 2026-01554 Filed 1-26-26; 8:45 am]

BILLING CODE 7020-02-P